DEPARTMENT OF COMMERCE

Foreign-Trade Zones Board

[B-17-2017]

Foreign-Trade Zone 87—Lake Charles, Louisiana Application for Expansion of Subzone 87F; Westlake Chemical Corporation, Sulphur, Louisiana

An application has been submitted to the Foreign-Trade Zones (FTZ) Board by the Lake Charles Harbor & Terminal District, grantee of FTZ 87, requesting an expansion of Subzone 87F on behalf of Westlake Chemical Corporation. The application was submitted pursuant to the provisions of the Foreign-Trade Zones Act, as amended (19 U.S.C. 81a-81u), and the regulations of the FTZ Board (15 CFR part 400). It was formally docketed on March 24, 2017.

Subzone 87F was approved on October 25, 2016 (Board Order 2016, 81 FR 76915, November 4, 2016). The subzone currently consists of the following sites: Site 1 (583.88 acres)—Petro Operations, 900 Highway 108, Sulphur; Site 2 (70.83 acres)—Poly Operations, 3525 Cities Services Highway, Sulphur; and, Site 3 (691.78 acres)—Marine Terminal Operations, 1820 PAK Tank Road, Sulphur. The subzone also includes several pipelines.

The applicant is requesting authority to expand the subzone to include two additional sites: Site 4 (39.52 acres)—North Plant, 1600 VCM Plant Road, Westlake; and, Site 5 (1,633 acres, 2 parcels)—South Plant, 1300 PPG Drive, Westlake. The proposed expansion would also include several pipelines. A notification of proposed production activity has been submitted and is being processed under 15 CFR 400.37 (Doc. B-87-2016).

In accordance with the FTZ Board's regulations, Camille Evans of the FTZ Staff is designated examiner to review the application and make recommendations to the FTZ Board.

Public comment is invited from interested parties. Submissions shall be addressed to the FTZ Board's Executive Secretary at the address below. The closing period for their receipt is May 9, 2017. Rebuttal comments in response to material submitted during the foregoing period may be submitted during the subsequent 15-day period to May 24, 2017.

A copy of the application will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

For further information, contact Camille Evans at Camille.Evans@trade.gov or (202) 482-2350.

Dated: March 24, 2017.
Andrew McGilvray,
Executive Secretary.

[FR Doc. 2017-06252 Filed 3-29-17; 8:45 am]

BILLING CODE 3510-DS-P